DEPARTMENT OF COMMERCE

National Oceanic and Atmospheric Administration

[RTID 0648-XC981]

Western Pacific Fishery Management Council (Council); Public Meeting

AGENCY: National Marine Fisheries Service (NMFS), National Oceanic and Atmospheric Administration (NOAA), Commerce.

ACTION: Notice; public meeting.

SUMMARY: The Western Pacific Stock Assessment Review (WPSAR) Steering Committee will convene a public meeting to discuss and approve the 5-year calendar for stock assessments, and to address any other concerns related to the WPSAR process.

DATES: The Steering Committee will meet from 1 p.m. to 3 p.m. on May 15, 2023.

ADDRESSES: The meetings will be held by web conference. Specific information on joining the meeting, connecting to the web conference and providing oral public comments will be posted on the Council website at www.wpcouncil.org. For assistance with the web conference connection, contact the Council office at (808) 522-8220.

FOR FURTHER INFORMATION CONTACT: Kitty Simonds; telephone: (808) 522-8220, or email: kitty.simonds@noaa.gov.

SUPPLEMENTARY INFORMATION: The WPSAR Steering Committee consists of the Council's Executive Director, the Acting Science Director of the NMFS Pacific Islands Fisheries Science Center, and the Acting Regional Administrator of the NMFS Pacific Islands Regional Office. You may read more about WPSAR at https://www.pifsc.noaa.gov/peer_reviews/wpsar/index.php.

The public will have an opportunity to comment during the meeting. The agenda order may change. The meeting will run as late as necessary to complete scheduled business.

Agenda for the WPSAR Steering Committee

• Introductions

• Stock assessments

• Discuss and update stock assessment review schedule

• Discuss and update review levels for stock assessments

• Discuss and nominate additional science products for review by the Center for Independent Experts, if necessary

• Discuss review and potential updates to the WPSAR policy

• Funding of WPSAR when conducted in the Territories

• Other business

• Public comment

Special Accommodations

The meeting is accessible to people with disabilities. Make direct requests for sign language interpretation or other auxiliary aids to Mark Fitchett, (808) 522-8141, or mark.d.fitchett@noaa.gov, at least 5 days prior to the meeting date.

Authority: 16 U.S.C. 1801 et seq.

Dated: April 27, 2023.
Rey Israel Marquez,
Acting Deputy Director, Office of Sustainable Fisheries, National Marine Fisheries Service.

[FR Doc. 2023-09305 Filed 5-2-23; 8:45 am]

BILLING CODE 3510-22-P